DEPARTMENT OF TRANSPORTATION

Pipeline and Hazardous Materials Safety Administration

Office of Hazardous Materials Safety; Notice of Application for Special Permits

AGENCY: Pipeline and Hazardous Materials Safety Administration, DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before June 12, 2006.

Address Comments To: Record Center, Pipeline and Hazardous Materials Safety Administration, U.S. Department of Transportation, Washington, DC 20590.

Comments should refer to the application number and be submitted in triplicate. If Confirmation of receipt of comments is desired, include a self-addressed stamped postcard showing the special permit number.

FOR FURTHER INFORMATION CONTACT: Copies of the applications are available for inspection in the Records Center, Nassif Building, 400 7th Street SW., Washington, DC or at http://dms.dot.gov.

This notice of receipt of applications for special permit is published in accordance with Part 107 of the Federal hazardous materials transportation law (49 U.S.C. 5117(b); 49 CFR 1.53(b)).

Issued in Washington, DC, on May 8, 2006.
R. Ryan Posten,
Chief, Special Permits Program, Office of Hazardous Materials, Special Permits & Approvals.

New Special Permits
Application No. | Docket No. | Applicant | Regulation(s) affected | Nature of special permits thereof
14346-N |  | United States Enrichment Corporation (USEC), Piketon, OH | 49 CFR 173.31(b) | To authorize the one-time transportation in commerce of 16 DOT Specification tank cars containing a Division 2.2 refrigerant gas without meeting requirements for the tank-head puncture resistance system or thermal protection (mode 2).
14327-N |  | Florida Power and Light Co., Jensen Beach, FL | 49 CFR 173.403, 173.427(b), 173.465(c) and (d) | To authorize the transportation in commerce of a Class 7 nuclear reactor head in alternative packaging (modes 1, 3).
14348-N |  | Matheson Tri-Gas, Parsippany, NJ | 49 CFR 173.301(f)(1) | To authorize the use of Compressed Gas Association pamphlet CGA S-1.1-2003 in lieu of CGA S-1.1-2001 for pressure relief devices on DOT Specification cylinders containing certain Division 2.3 Zone B toxic gases (modes 1, 3).
14349-N |  | Matheson Tri-Gas, Parsippany, NJ | 49 CFR 173.3(d)(2)(ii) | To authorize the transportation in commerce of non-DOT specification full open head, steel salvage cylinders with a water capacity of more than 119 gallons for use in transporting damaged, leaking or improperly filled cylinders containing various hazardous materials (modes 1, 2, 3).

[FR Doc. 06-4480 Filed 5-11-06; 8:45 am]

BILLING CODE 4909-60-M